DEPARTMENT OF ENERGY

Nuclear Medicine Education Award Program

AGENCY: Department of Energy.

ACTION: Notice of Program Interest.

SUMMARY: The U.S. Department of Energy (DOE) announces a university grant program providing support for the development of graduate and postgraduate academic curricula in nuclear medicine studies and applications including nuclear pharmacy. The support includes individual grants up to $120,000 a year for up to three years to support faculty, academic staff, and laboratory equipment and instrumentation. The total funding for this award program is $500,000 per year for three years. The specific goal of these grants is to increase the number of graduate students enrolled in these programs.

DATES: Opening date: September 5, 2000, and closing date: October 23, 2000.

ADDRESSES: Complete details, instructions on how to apply, opening and closing dates and the forms may be obtained from the DOE NE home page on the Internet at: http://www.ne.doe.gov. The formal solicitation document will be disseminated electronically as solicitation number DE-PS01-00NE22918 through the Department's Industry Interactive Procurement System (IIPS) home page located at https://doe-iips.pr.doe.gov.

FOR FURTHER INFORMATION CONTACT: John Pantaleo, Program Manager, at 301-903-2525 and Phyllis Morgan, Contract Specialist at 202-426-0064.

SUPPLEMENTARY INFORMATION: This effort is part of the DOE Advanced Nuclear Medicine Initiative (ANMI) that was inaugurated Fiscal Year 2000. The purpose of the ANMI is to support broad-based research on new uses of isotopes including alpha emitters for the diagnosis and therapy of life threatening diseases or other innovative medical applications, and to support nuclear medicine educational programs.

Effective October 1, 1999, the IIPS system became the primary way for the Office of Headquarters Procurement Services to conduct competitive acquisitions and financial assistance transactions. IIPS provides the medium for disseminating solicitations, receiving financial assistance applications and proposals, evaluating, and awarding various instruments in a paperless environment. All documents included in your applications should be submitted in the Microsoft Word format. To get more information about IIPS and to register your organization, go to https://doe-iips.pr.doe.gov. Follow the link on the IIPS home page to the Secure Services Page. Registration is a prerequisite to the submission of an application, and applicants are encouraged to register as soon as possible. When registering, all applicants should use the same North American Industry Classifications System number: 325412. A help document, which describes how IIPS works, can be found at the bottom of the Secure Services Page.

Issued in Washington, DC on August 17, 2000.
Carol Rueter,
Director, Program Services Division, Office of Headquarters Procurement Services.

[FR Doc. 00-21506 Filed 8-22-00; 8:45 am]

BILLING CODE 6450-01-P